DEPARTMENT OF THE INTERIOR

Fish and Wildlife Service

Draft Comprehensive Conservation Plan and Environmental Assessment for Shawangunk Grasslands National Wildlife Refuge

AGENCY: Fish and Wildlife Service, Department of the Interior.

ACTION: Notice of availability.

SUMMARY: The U.S. Fish and Wildlife Service (Service, we, our) announces that the draft Comprehensive Conservation Plan (CCP) and Environmental Assessment (EA) for the Shawangunk Grasslands National Wildlife Refuge (NWR) is available for review. The Service prepared this CCP/EA in compliance with the National Environmental Policy Act of 1969, and the National Wildlife Refuge System Administration Act of 1966, as amended by the National Wildlife Refuge System Improvement Act of 1997 (16 U.S.C. 668dd, et seq.).

DATES: The draft CCP/EA will be available for public review and comment for a 45-day period starting with the publication of this notice.

ADDRESSES: Copies of the draft CCP/EA on compact diskette or in print may be obtained by writing to Nancy McGarigal, U.S. Fish and Wildlife Service, 300 Westgate Center Drive, Hadley, Massachusetts 01035, or e-mail northeastplaning@fws.gov. The document may also be viewed on the Web site at http://library.fws.gov/ccps.htm. We plan to host one evening public meeting in the Town of Shawangunk. We will announce the details at least 2 weeks in advance in local papers and post them at the refuge.

FOR FURTHER INFORMATION CONTACT: Nancy McGarigal, Refuge Planner, U.S. Fish and Wildlife Service, 300 Westgate Center Drive, Hadley, Massachusetts 01035, 413-253-8562 (telephone), 413-253-8562 (FAX), or e-mail Nancy at Nancy_McGarigal@fws.gov.

SUPPLEMENTARY INFORMATION: The National Wildlife Refuge System Administration Act of 1966, as amended by the National Wildlife Refuge System Improvement Act of 1997, requires the Service to develop a CCP for each refuge. The purpose of developing a CCP is to provide refuge managers with a 15-year strategy for achieving refuge purposes and contributing to the mission of the National Wildlife Refuge System, in conformance with the sound principles of fish and wildlife science, natural resources conservation, legal mandates, and Service policies. In addition to outlining broad management direction on conserving wildlife and habitats, CCPs identify wildlife-dependent recreational opportunities available to the public, including opportunities for hunting, fishing, wildlife observation and photography, and environmental education and interpretation. The Service will review and update each CCP at least every 15 years in accordance with the National Wildlife Refuge System Improvement Act of 1997 and the National Environmental Policy Act of 1969.

The transfer of 566 acres from the United States Military Academy at West Point (through the General Services Administration) to the Service created the Shawangunk Grasslands NWR in 1999. No land has been added since then. The refuge was established for its “particular value in carrying out the national migratory bird management program” (16 U.S.C. 667b), under the general legislative authority of the Transfer of Certain Real Property for Wildlife Conservation Purposes Act (16 U.S.C. 667b) and the Federal Property and Administrative Services Act (40 U.S.C. 471 et seq.; repealed by Public Law 107-217, August 21, 2002). Our Regional Director's memorandum to the General Services Administration, dated October 17, 1997, specifies the refuge's Regional importance for wintering raptors and breeding and migrating grasslands birds.

The 566-acre refuge lies in the Town of Shawangunk, Ulster County, New York, in the Hudson River/New York Bight watershed. We maintain 400 of those acres as open fields and grasslands, primarily by mowing, to benefit breeding, migratory and wintering grasslands-dependent birds. Asphalt or concrete runways and taxiways cover 30 acres of the refuge, formerly a military training airport. We do not actively manage the remaining 136 acres, which are classified as upland hardwood woodland with some shrub and transitioning to woodland.

We know of no federally listed species on the refuge. However, several rare or uncommon plants, and at least 141 species of birds, including 58 breeding species, have been documented. At least 20 of those are listed by the State of New York or are species of conservation concern for the Region. We conduct annual breeding bird surveys to document their presence and breeding status.

Bird watching is the most popular activity at this unstaffed refuge, which is administered by from the Wallkill River NWR headquarters in Sussex, New Jersey. The Shawangunk Grasslands NWR is open from sunrise to sunset, 7 days a week. Wildlife observation, nature photography, and environmental education and interpretation are all permitted.

The draft CCP/EA analyzes three alternatives for managing the refuge over the next 15 years. Alternative A (the “No Action” Alternative) would continue our present management, and would not change the habitat management and visitor programs described above.

Alternative B (the Service-preferred alternative) would expand our current grasslands management program with more intensive, diverse tools and techniques, which would potentially include grazing, haying, prescribed burning, and applying herbicides to promote native grassland and discourage invasive plants, and would also restore the natural hydrology of the area, to the extent that it does not impede our grasslands management. We would remove the runways and taxiways from 30 acres and restore them to native grassland, except where we can incorporate them into a planned interpretive trail. Alternative B would also open a small, man-made pond to fishing, and open the refuge to a fall archery deer hunt.

Alternative C would allow all 400 acres of managed grasslands and open fields to revert to shrub land, and eventually to woodland, to benefit shrub- and forest-dependent birds of conservation concern for the Region. Re-establishing the natural hydrology of the area would become a higher priority, which would eliminate the opportunity for fishing in the pond. As in alternative B, we would also restore the 30 acres of runways and taxiways, create an interpretive trail, and open the refuge to a fall archery deer hunt.

The draft also identifies a 5,960-acre Shawangunk Grasslands Focus Area that includes the refuge and contiguous, ecologically important land. None of the alternatives proposes Service acquisition of additional land at this time. We will encourage conservation owners to protect grasslands in that area.

All of the alternatives would continue to promote our existing conservation partnerships, new partnerships, and valuable volunteer opportunities. They would also enhance our outreach in the locale, including information exchanges with private landowners in the focus area who are interested in managing grassland for wildlife.

Dated: September 21, 2005.
Richard O. Bennett,
Acting Regional Director, U.S. Fish and Wildlife Service, Hadley, Massachusetts.

[FR Doc. 05-23642 Filed 12-2-05; 8:45 am]

BILLING CODE 4310-55-M